DEPARTMENT OF HEALTH AND HUMAN SERVICES

National Institutes of Health

National Cancer Institute; Amended Notice of Meeting

Notice is hereby given of a change in the meeting of the National Cancer Institute Special Emphasis Panel, September 26, 2007, 8 a.m. to September 27, 2007, 5 p.m., Bethesda Marriott, 5151 Pooks Hill Road, Bethesda, MD, 20814 which was published in the Federal Register on July 31, 2007, 72 FR 41760.

The meeting notice is amended to reflect the change in the name of the committee from “SPORE in Lymphoma, Prostate, Breast & Skin Cancers” to “SPORE in Lymphoma, Prostate, Breast, Skin, Leukemia & GI Cancers”. The meeting is closed to the public.

Dated: August 13, 2007.
Jennifer Spaeth,
Director, Office of Federal Advisory Committee Policy.

[FR Doc. 07-4068 Filed 8-20-07; 8:45 am]

BILLING CODE 4140-01-M